DEPARTMENT OF DEFENSE

Department of the Air Force

Performance Review Boards List of 2000 Members

Below is a list of individuals who are eligible to serve on the Performance Review Boards for the Department of the Air Force in accordance with the Air Force Senior Executive Appraisal and Awards System.

Secretariat

Mr. Ronald L. Orr

Maj Gen James E. Sherrard III

Mr. Frank Tuck

Mr. Gary M. Erickson

Ms. Susan A. O'Neal

Mr. Harlan G. Wilder

Air Staff and “Others”

Mr. William A. Davidson

Mr. Gene L. Hathenbruck

Maj Gen Larry Northington

Mr. James C. Barone

Ms. Mary Lou Keener

Mr. Anthony J. DeLuca

Air Force Materiel Command

Lt Gen Charles Coolidge

Maj Gen Claude Bolton

Mr. Harry Schulte

Dr. Donald Daniel

Mr. Pat Zarokiewicz

Janet A. Long,
Air Force Federal Register Liaison Officer.

[FR Doc. 00-16453 Filed 6-28-00; 8:45 am]

BILLING CODE 5001-05-U